DEPARTMENT OF ENERGY

Federal Energy Regulatory Commission

[Docket No. EL04-110-000]

New York Independent System Operator, Inc.; Notice of Filing

June 18, 2004.

Take notice that on June 18, 2003, the New York Independent System Operator, Inc., (NYISO) filed an emergency request for waivers of several tariff provisions and for expedited Commission action. The requested waivers would support the NYISO's ability to cancel a transmission Congestion Contract Reconfiguration Auction currently scheduled for June 23, 2004.

NYISO states that it has electronically served a copy of this filing on the official representative of each of its customers, on each participant in its stakeholder committees, on the New York State Public Service Commission, and on the electric utility regulatory agencies of New Jersey and Pennsylvania.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: June 21, 2004.

Magalie R. Salas,
Secretary.

[FR Doc. E4-1419 Filed 6-25-04; 8:45 am]

BILLING CODE 6717-01-P